DEPARTMENT OF DEFENSE

Department of the Air Force

Privacy Act of 1974; System of Records

AGENCY: Department of the Air Force, DoD.

ACTION: Notice to amend systems of records.

SUMMARY: The Department of the Air Force is amending a system of records notice in its existing inventory of record systems subject to the Privacy Act of 1974, (5 U.S.C. 552a), as amended.

The amendment is required to alert the users of this system of records of the additional requirements of the Health Insurance Portability and Accountability Act (HIPAA) of 1996, as implemented by DoD 6025.18-R, DoD Health Information Privacy Regulation. Language being added under the ‘Routine Use’ category is as follows:

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

DATES: This proposed action will be effective without further notice on December 18, 2003, unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: November 7, 2003.
Patricia L. Toppings,
Alternate OSD Federal Register Liaison Officer, Department of Defense.

F044 AF SG O

System name:

United States Air Force Master Radiation Exposure Registry (June 11, 1997, 62 FR 31793).

Changes:

* * * * *

Authority for maintenance of the system:

Replace ‘Regulation 161-28, Personnel Dosimetry Program’ with ‘Instruction 48-148, Ionizing Radiation Protection, Air Force Instruction 40-201, Managing Radioactive Materials in the USAF, and Air Force Instruction 48-125, The U.S. Air Force Personnel Dosimetry Program”.

Purpose(s):

Replace ‘USAF Occupational and Environmental Health Laboratory (OEHL)’ with ‘311th Human Systems Wing’s Air Force Institute for Environment Safety, and Occupational Health Risk Analysis (AFIERA), Radiation Surveillance Division (SDR)’.

Routine uses of records maintained in the system, including categories of users and the purposes of such uses:

Add to end of entry ‘NOTE: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

Storage:

Replace entry with “Maintained in computers and on computer output products.”

* * * * *

F044 AF SG O

System name:

United States Air Force Master Radiation Exposure Registry.

System location:

United States Air Force Institute for Environment, Safety, and Occupational Health Risk Analysis (AFIERA), Brooks City-Base, TX 78235-5103; Air Force medical centers, hospitals and clinics; Air Force operating locations and installations using sources of ionizing radiation. Official mailing addresses are published as an appendix to the Air Force’s compilation of systems of records notices.

Categories of individuals covered by the system:

All personnel currently enrolled in or having been monitored under the USAF's Personnel Dosimetry Program or on whom the Air Force has performed a bioassay for radioactive materials since 1960. This includes Air Force military and civilian employees; military and civilian employees of other Components and the Department of Defense; and some employees of other federal agencies and civilian contractors.

Categories of records in the system:

Personal radiation dosimetry (film badge or thermoluminescent dosimeter) results in monthly and lifetime cumulative periods and results of bioassays for radioactive materials in the body.

Authority for maintenance of the system:

Section 20.401(a) and (c), 10 Chapter I, Code of Federal Regulations (10 CFR 20.401(a)(c)) as directed by E.O. 12196, 29 CFR 1910.96(b)(2)(iii), (n) and (o), implemented by Air Force Instruction 48-148, Ionizing Radiation Protection, Air Force Instruction 40-201, Managing Radioactive Materials in the USAF, and Air Force Instruction 48-125, The U.S. Air Force Personnel Dosimetry Program and the USAF Master Radiation Exposure Registry.

Purpose(s):

311th Human Systems Wing's Air Force Institute for Environment Safety, and Occupational Health Risk Analysis (AFIERA), Radiation Surveillance Division (SDR): To maintain a cumulative record of occupational exposure to ionizing radiation on each radiation worker monitored under the USAF's personnel dosimetry program as required by Public Law; to provide a copy of an individual's record to any future employer of that individual who makes a proper request for it as provided for by law; to provide individuals a copy of their Air Force occupational radiation exposure history; to provide information about an individual's ionizing radiation exposure history to medical personnel responsible for radiation safety and the individual's health care, and the individual's supervisor; to provide information about radiation exposures resulting from radiation accidents or incidents to authorized investigators of such events and the Nuclear Regulatory Commission (NRC) or Department of Labor, Occupational Safety and Health Administration (DOL/OSHA); for use in epidemiological and statistical studies to determine the effectiveness of Air Force-wide radiological health programs, trends in exposure doses, exposure experiences of selected occupational groups and similar studies.

Medical personnel:—To determine the requirements for occupational physical examinations and assess whether an individual's medical condition may be related to his or her radiation exposure; to use in formulating recommendations to supervisors on requirements to remove or limit an individual from further work with ionizing radiation sources; to determine the need for investigation of workplace environments for abnormal radiation exposure conditions; to formulate recommendations for modifications of facilities, equipment or procedures to limit workers' radiation exposures to as low as reasonably achievable; to assist in developing worker education programs on local radiation hazards.

Employees' supervisors:—To determine whether employee can continue to work in a given radiation environment; to determine radiation exposures to personnel associated with a given task; to implement improvements in facilities, equipment, or procedures to reduce worker exposures to as low as reasonably achievable; to assist in local worker education about occupational radiation hazards.

Individuals:—To be aware of their lifetime radiation exposures and aid in making personal judgments about the occupational radiation hazards of their environment and in fulfilling their individual responsibilities for radiation safety.

Investigators of radiation accidents or incidents:—To assist in determining the possible causes of such an event and recommended measures to prevent recurrence; to determine the severity of the event and possible long term consequences to individuals involved in it or future similar events.

NRC and DOL/OSHA:—To use in formulating or enforcement of national policies and regulations for protection of workers from ionizing radiation sources in their occupational environment.

Future employers:—To use as the basis for continuing the lifetime cumulative record on individuals as required by Public Law and to use for all purposes for which the current employer uses these records.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained in computers and on computer output products.

Retrievability:

Retrieved by name or Social Security Number.

Safeguards:

Records Air Force Institute for Environment, Safety, and Occupational Health Risk Analysis (AFIERA/SDRD) are accessed by custodian of the record system and persons responsible for servicing the record system in performance of their official duties and are controlled by computer system software and personnel screening. Records at installations are accessed by medical personnel in performance of their official duties. Records are controlled by personnel screening.

Retention and disposal:

Records are permanent at Air Force Institute for Environment, Safety, and Occupational Health Risk Analysis (AFIERA/SDRD). Latest cumulative history entered in an individual's medical record is retained for the life of the medical record. Records retained by installation medical personnel and supervisors for one year, then destroyed by tearing into pieces, shredding, pulping, macerating, or burning.

System manager(s) and address:

Chief, Radiation Protection Division, Air Force Medical Service Agency, 110 Luke Avenue, Room 405, Bolling AFB DC 20032-7050.

Notification procedure:

Individuals seeking access to information about themselves contained in this system should address written inquiries to Radiation Protection Division, (AFMOA/SGZR), 110 Luke Avenue, Room 405, Bolling Air Force Base, DC 20032-7050, or visit the Air Force Institute for Environment Safety, and Occupational Health Risk Analysis (AFIERA)/SDRD, 2350 Gillingham Drive, Brooks City-Base, TX 78235-5103.

Information required for identification of an individual record is: Full name, Social Security Number and Service Number(s) if different from Social Security Number. If the request is from other than the individual to whom the records pertain, a signed authorization by the individual to release the records to the requester is required.

Record access procedures:

Individuals seeking access to information about themselves contained in this system should address written inquiries to Radiation Protection Division, (AFMOA/SGZR), 110 Luke Avenue, Room 405, Bolling Air Force Base, DC 20032-7050, or visit the Air Force Institute for Environment Safety, and Occupational Health Risk Analysis (AFIERA)/SDRD, 2350 Gillingham Drive, Brooks City-Base, TX 78235-5103.

Information required for identification of an individual record is: Full name, Social Security Number and Service Number(s) if different from Social Security Number. If the request is from other than the individual to whom the records pertain, a signed authorization by the individual to release the records to the requester is required.

Contesting record procedures:

The Air Force rules for accessing records, and for contesting contents and appealing initial agency determinations are published in Air Force Instruction 37-132; 32 CFR part 806b; or may be obtained from the system manager.

Record source categories:

Information obtained from previous employers; other components and civilian or government agencies responsible for conducting a radiation protection program and personnel dosimetry at an individual's workplace; and medical institutions.

Exemptions claimed for the system:

None.

[FR Doc. 03-28701 Filed 11-17-03; 8:45 am]

BILLING CODE 5001-06-P